DEPARTMENT OF ENERGY

Federal Energy Regulatory Commission

[Project No. 13890-000]

Dodge Mill Realty, LLC; Notice of Preliminary Permit Application Accepted for Filing and Soliciting Comments, Motions To Intervene, and Competing Applications

December 8, 2010.

On December 3, 2010, Dodge Mill Realty, LLC filed an application for a preliminary permit, pursuant to section 4(f) of the Federal Power Act (FPA), proposing to study the feasibility of the Dodgeville Dam Hydroelectric Project to be located on the 10 Mile River near the Town of Attleboro, in Bristol County, Massachusetts. The sole purpose of a preliminary permit, if issued, is to grant the permit holder priority to file a license application during the permit term. A preliminary permit does not authorize the permit holder to perform any land-disturbing activities or otherwise enter upon lands or waters owned by others without the owners' express permission.

The proposed project would consist of: (1) The existing 20-foot-high, 400-foot-long Dodgeville dam equipped with a 40-foot-long spillway; (2) the existing 23-acre Dodgeville pond with a normal pool elevation of 101.5 feet NGVD; (3) a new 4-foot-wide, 7-foot-high intake structure equipped with a new slide gate and trashrack; (4) a new 4-foot-diameter, 50-foot-long penstock; (5) a new powerhouse with four turbine generating units with a total installed capacity of 56 kilowatts; and (6) a new 220 volt, 300-foot-long transmission line. The project would produce an estimated average annual generation of about 236 megawatt-hours.

Applicant Contact: Gary Demers, 453 South Main Street, Attleboro, MA 02703, phone: (508) 222-2181 or (508) 369-5955.

FERC Contact: Tom Dean (202) 502-6041.

Deadline for filing comments, motions to intervene, competing applications (without notices of intent), or notices of intent to file competing applications: 60 days from the issuance of this notice. Competing applications and notices of intent must meet the requirements of 18 CFR 4.36. Comments, motions to intervene, notices of intent, and competing applications may be filed electronically via the Internet. See 18 CFR 385.2001(a)(1)(iii) and the instructions on the Commission's Web site http://www.ferc.gov/docs-filing/efiling.asp. Commenters can submit brief comments up to 6,000 characters, without prior registration, using the eComment system at http://www.ferc.gov/docs-filing/ecomment.asp. You must include your name and contact information at the end of your comments. For assistance, please contact FERC Online Support. Although the Commission strongly encourages electronic filing, documents may also be paper-filed. To paper-file, mail an original and seven copies to: Kimberly D. Bose, Secretary, Federal Energy Regulatory Commission, 888 First Street, NE., Washington, DC 20426.

More information about this project, including a copy of the application, can be viewed or printed on the “eLibrary” link of the Commission's Web site at http://www.ferc.gov/docs-filing/elibrary.asp. Enter the docket number (P-13890) in the docket number field to access the document. For assistance, contact FERC Online Support.

Kimberly D. Bose,
Secretary.

[FR Doc. 2010-31418 Filed 12-14-10; 8:45 am]

BILLING CODE 6717-01-P